DEPARTMENT OF HOMELAND SECURITY

Federal Emergency Management Agency

[Docket ID: FEMA-2017-0018; OMB No. 1660-0002]

Agency Information Collection Activities: Proposed Collection; Comment Request; Disaster Assistance Registration

AGENCY: Federal Emergency Management Agency, DHS.

ACTION: Notice.

SUMMARY: The Federal Emergency Management Agency, as part of its continuing effort to reduce paperwork and respondent burden, invites the general public and other Federal agencies to take this opportunity to comment on an extension without change of a currently approved information collection. In accordance with the Paperwork Reduction Act of 1995, this notice seeks comments concerning the Disaster Assistance Registration process.

DATES: Comments must be submitted on or before July 31, 2017.

ADDRESSES: To avoid duplicate submissions to the docket, please use only one of the following means to submit comments:

(1) Online. Submit comments at www.regulations.gov under Docket ID FEMA-2017-0018. Follow the instructions for submitting comments.

(2) Mail. Submit written comments to Docket Manager, Office of Chief Counsel, DHS/FEMA, 500 C Street SW., Room 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Contact Elizabeth McDowell, Supervisory Program Specialist, FEMA, Recovery Directorate, at (540) 686-3630 for further information. You may contact the Records Management Division for copies of the proposed collection of information at facsimile number (202) 646-3347 or email address: FEMA-Information-Collections-Management@dhs.gov.

SUPPLEMENTARY INFORMATION: The Robert T. Stafford Disaster Relief and Emergency Assistance Act (Pub. L. 93-288) (the Stafford Act), as amended, is the legal basis for the Federal Emergency Management Agency (FEMA) to provide financial assistance and services to individuals who apply for disaster assistance benefits in the event of a federally declared disaster. Regulations in title 44 of the Code of Federal Regulations (CFR), Subpart D, “Federal Assistance to Individuals and Households,” implement the policy and procedures set forth in section 408 of the Stafford Act, 42 U.S.C. 5174, as amended. This program provides financial assistance and, if necessary, direct assistance to eligible individuals and households who, as a direct result of a major disaster or emergency, have uninsured or under-insured, damage, necessary expenses, and serious needs which are not covered through other means.

Individuals and households may apply for assistance under the Individuals and Households program in person, via telephone or internet. FEMA utilizes paper forms 009-0-1 (English) Disaster Assistance Registration or FEMA Form 009-0-2 (Spanish), Solicitud/Registro Para Asistencia De Resastre to register individuals.

FEMA provides direct assistance to eligible applicants pursuant to the requirements in 44 CFR 206.117. To receive direct assistance for temporary housing (e.g., mobile home or other manufactured housing unit) from FEMA, the applicant is required to acknowledge and accept the conditions for occupying government property. The applicant is also required to acknowledge that he or she has been informed of the conditions for continued direct housing assistance. To accomplish these acknowledgments and notifications, FEMA uses the applicant's household composition data in National Emergency Management Information System to prepare a Manufactured Housing Unit Revocable License and Receipt for Government Property FEMA Form 009-0-5, or Las Casas Manufacturadas Unidad Licencia Revocable y Recibo de la Propiedad del Gobierno FEMA Form 009-0-6.

Federal public benefits are provided to U.S. citizens, non-citizen nationals, or qualified aliens. A parent or guardian of a minor child may be eligible for disaster assistance if, the minor child is a US citizen, Non-citizen national or qualified alien and the minor child lives with the parent or guardian. (See 8 U.S.C. 1601-1646).

By signing FEMA Forms 009-0-3, Declaration and Release or 009-0-4, Declaración Y Autorización an applicant or a member of the applicant's household is attesting to being a US citizen, non-citizen national or qualified alien. A parent or guardian of a minor child signing FEMA Forms 009-0-3, Declaration and Release or 009-0-4, Declaración Y Autorización is attesting that the minor child is a US citizen, non-citizen national or qualified alien.

Collection of Information

Title: Disaster Assistance Registration.

Type of Information Collection: Extension without change of a currently approved information collection.

OMB Number: 1660-0002.

FEMA Forms: FEMA Form 009-0-1T (English) Tele-Registration, Disaster Assistance Registration; FEMA Form 009-0-1Int (English) Internet, Disaster Assistance Registration; FEMA Form 009-0-2Int (Spanish) Internet, Registro Para Asistencia De Desastre; FEMA Form 009-0-1 (English) Paper Application/Disaster Assistance Registration; FEMA Form 009-0-2 (Spanish), Solicitud en Papel/Registro Para Asistencia De Desastre; FEMA Form 009-0-1S (English) Smartphone, Disaster Assistance Registration; FEMA Form 009-0-2S (Spanish) Smartphone, Registro Para Asistencia De Desastre; FEMA Form 009-0-3 (English), Declaration and Release; FEMA Form 009-0-4 (Spanish), Declaración Y Autorización; FEMA Form 009-0-5 (English), Manufactured Housing Unit Revocable License and Receipt for Government Property; FEMA Form 009-0-6 (Spanish), Las Casas Manufacturadas Unidad Licencia Revocable y Recibo de la Propiedad del Gobierno.

Abstract: The various forms in this collection are used to collect pertinent information to provide financial assistance, and if necessary, direct assistance to eligible individuals and households who, as a direct result of a disaster or emergency, have uninsured or under-insured, necessary expenses and serious needs that they are unable to meet through other means.

Affected Public: Individuals or Households.

Number of Respondents: 3,264,753.

Number of Responses: 3,264,753.

Estimated Total Annual Burden Hours: 628,036 hours.

Estimated Cost: The estimated annual cost to respondents for the hour burden is $19,255,579. There are no annual costs to respondents operations and maintenance costs for technical services. There is no annual start-up or capital costs. The cost to the Federal Government is $15,618,762.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 19, 2017.
Richard Mattison,
Records Management Branch Chief, Mission Support, Federal Emergency Management Agency, Department of Homeland Security.

[FR Doc. 2017-11088 Filed 5-26-17; 8:45 am]

BILLING CODE 9111-23-P